NATIONAL SCIENCE FOUNDATION

Advisory Committee for Social, Behavioral and Economic Sciences; Notice of Meeting

In accordance with the Federal Advisory Committee Act (Pub. L. 92-463, as amended), the National Science Foundation (NSF) announces the following meeting:

Name and Committee Code: Advisory Committee for Social, Behavioral and Economic Sciences (#1171).

Date and Time: May 2, 2019; 9:00 a.m. to 5:00 p.m., May 3, 2019; 9:00 a.m. to 12:30 p.m.

Place: National Science Foundation, 2415 Eisenhower Avenue, Room E2020, Alexandria, VA 22314.

Type of Meeting: Open.

Contact Person: Dr. Deborah Olster, Office of the Assistant Director, Directorate for Social, Behavioral and Economic Sciences, National Science Foundation, 2415 Eisenhower Avenue, Alexandria, VA 22314; Telephone: 703-292-8700.

Summary of Minutes: Posted on SBE advisory committee website at: https://www.nsf.gov/sbe/advisory.jsp.

Purpose of Meeting: To provide advice and recommendations to the National Science Foundation on major goals and policies pertaining to Social, Behavioral and Economic Sciences Directorate (SBE) programs and activities.

Agenda

• SBE Directorate Update

• To Secure Knowledge

• NSF Distinguished Lecture in the Social, Behavioral, and Economic Sciences: Science Comprehension Without Curiosity is No Virtue, and Curiosity Without Comprehension No Vice, Dr. Dan Kahan, Yale University

• SBE research to address Office of Management and Budget/Office of Scientific and Technology Policy Scientific Priorities

• Pursuing effective SBE partnerships

• Contributions of the SBE Sciences to National Security

• Committee on Equal Opportunities in Science and Engineering (CEOSE) Update

• Advisory Committee for Environmental Research and Education (AC-ERE) Update

• SBE Sciences and NSF's Big Ideas

• Wrap-up, Assignments, Planning for Next SBE AC Meeting

Dated: April 8, 2019.
Crystal Robinson,
Committee Management Officer.

[FR Doc. 2019-07203 Filed 4-10-19; 8:45 am]

BILLING CODE 7555-01-P